DEPARTMENT OF VETERANS AFFAIRS

Advisory Committee on Women Veterans, Notice of Meeting

The Department of Veterans Affairs (VA) gives notice under the Federal Advisory Committee Act, 5 U.S.C. ch. 10, that the Advisory Committee on Women Veterans will conduct a meeting on June 5-6, 2024. Sessions will take place each day in-person at VA Central Office (VACO), 810 Vermont Avenue NW, Washington, DC 20420 and virtually using the meeting access information below. The meeting will begin and ends as follows:

Date | Time | Location
June 5, 2024 | 9:00 a.m.-2:00 p.m. Eastern Standard Time (EST) | VACO (Room 230)/WEBEX link and call-in information below.
June 6, 2024 | 9:00 a.m.-12:00 p.m. (EST) | VACO (Room C-7)/WEBEX link and call-in information below.

The meeting sessions are open to the public.

The purpose of the Committee is to advise the Secretary of Veterans Affairs regarding the needs of women Veterans with respect to health care, rehabilitation, compensation, outreach and other programs and activities administered by VA designed to meet such needs. The Committee makes recommendations to the Secretary regarding such programs and activities.

On Wednesday, June 5, 2024, the agenda includes full committee deliberation on 2024 report recommendations. Please note that if the Committee concludes its discussion on the report recommendations, then the meeting will adjourn at the end of the day and the meeting will not reconvene on the following day.

Time will be allotted for the public to provide comments starting at 9:15 a.m. and ending no later than 9:45 a.m. (EST). The comment period may end sooner, if there are no comments presented or they are exhausted before the end time. Individuals interested in providing comments during the public comment period are allowed no more than three minutes for their statements.

On Thursday, June 6, 2024, the committee will conclude full committee discussion on 2024 report recommendations, if there are remaining items to discuss. If there are no items to discuss, the Chair will notify participants at the end of the first day.

Those who want to submit written statements for the Committee's review should submit them to the Center for Women Veterans at 00W@mail.va.gov no later than May 30, 2024. Any member of the public who wishes to observe virtually may use the following access information: (https://veteransaffairs.webex.com/veteransaffairs/j.php?MTID=m95a09f2b7d947767b6bb6a5ae27964cd); meeting number: 2821 022 2673; password: K429jYrDxJ@. Join by phone at 1-404-397-1596 (USA toll number); Access code: 2821 022 2673.

Dated: May 9, 2024.
Jelessa M. Burney,
Federal Advisory Committee Management Officer.

[FR Doc. 2024-10548 Filed 5-14-24; 8:45 am]

BILLING CODE 8320-01-P